DEPARTMENT OF DEFENSE

Office of the Secretary

Meeting of the Defense Finance and Accounting Service Board of Advisors

AGENCY: Department of Defense, Office of the Under Secretary of Defense (Comptroller).

ACTION: Notice of Meeting.

SUMMARY: This notice sets forth the schedule and summary agenda for the first meeting of the Defense Finance and Accounting Service (DFAS) Board of Advisors. The Deputy Secretary of Defense chartered the Board on October 4, 2000, to provide advice and recommendations to the Secretary of Defense and Deputy Secretary of Defense regarding the mission of DFAS as it transforms its financial management operations, processes, and systems. The meeting will be open to the public. Notice of this meeting is required under the Federal Advisory Committee Act.

DATES: Wednesday, October 31, 2001.

ADDRESSES: Sheraton Crystal City, Ballroom C, 1800 Jefferson Davis Highway, Arlington, VA 22202.

Proposed Schedule and Agenda: The Defense Finance and Accounting Service Board of Advisors will meet in open session from 1:30 p.m. to 3:30 p.m. on October 31, 2001. The meeting will include discussions on the DFAS Strategic Plan and Balanced Scorecard, DFAS Competitive Sourcing Program, and Financial Management Reform Plans and Initiatives.

FOR FURTHER INFORMATION: Contact Major Dianne Armon, Resource Management, DFAS, Crystal Mall 3 (room 200), 1931 Jefferson Davis Highway, Arlington, VA 22240. Telephone (703) 607-5184.

Public seating is limited, and is available on a first-come-first-served basis.

Dated: October 3, 2001.
L.M. Bynum,
Alternate OSD Federal Register Liaison Officer, Department of Defense.

[FR Doc. 01-25326 Filed 10-9-01; 8:45 am]

BILLING CODE 5001-08-M